FEDERAL TRADE COMMISSION

Postponement of Public Workshop Related to Proposed Changes to the Safeguards Rule

AGENCY: Federal Trade Commission.

ACTION: Postponement and change of format of public workshop; extension of deadlines for submission of comments and requests to participate.

SUMMARY: The Federal Trade Commission (“FTC” or “Commission”) is rescheduling the public workshop relating to its April 4, 2019 Notice of Proposed Rulemaking (“NPRM”) announcing proposed changes to the Commission's Safeguards Rule. The workshop will take place via live webcast rather than in person. Additionally, the Commission is extending the deadlines for submission of requests to participate in the workshop and of public comments relating to the subject matter of the workshop.

DATES: The public workshop will be held on July 13, 2020, from 9:00 a.m. until 4:30 p.m. It will be freely accessible to the public via a live webcast on the FTC's website. Requests to participate as a panelist must be received by May 14, 2020. Any written comments related to agenda topics or the issues discussed by the panelists at the workshop must be received by August 12, 2020.

ADDRESSES: Interested parties may file a comment or a request to participate as a panelist online or on paper, by following the instructions in the Filing Comments and Requests to Participate as a Panelist part of the SUPPLEMENTARY INFORMATION section below. Write “Safeguards Rule, 16 CFR part 314, Project No. P145407,” on your comment and file your comment online at https://www.regulations.gov by following the instructions on the web-based form. If you prefer to file your comment on paper, write “Safeguards Rule, 16 CFR part 314, Project No. P145407,” on your comment and on the envelope and mail your comment to the following address: Federal Trade Commission, Office of the Secretary, 600 Pennsylvania Avenue NW, Suite CC-5610 (Annex F), Washington, DC 20580, or deliver your comment to the following address: Federal Trade Commission, Office of the Secretary, Constitution Center, 400 7th Street SW, 5th Floor, Suite 5610 (Annex F), Washington, DC 20024.

FOR FURTHER INFORMATION CONTACT: David Lincicum, Division of Privacy and Identity Protection, Bureau of Consumer Protection, Federal Trade Commission, 600 Pennsylvania Avenue NW, Washington, DC 20580, (202) 326-2773.

SUPPLEMENTARY INFORMATION:

I. Background

On April 4, 2019, the FTC issued an NPRM ¹ announcing a number of proposed modifications to its Safeguards Rule,² which implements data security requirements in the Gramm-Leach-Bliley Act.³ The Safeguards Rule requires that financial institutions under the FTC's jurisdiction develop, implement, and maintain written information security programs that are appropriate in light of the institutions' size and complexity and that take into account an assessment of relevant data security risks.⁴ The proposed rule would, among other things, establish with greater specificity the types of security measures and controls that financial institutions must explicitly consider in developing their information security programs.⁵ The Commission received 48 public comments in response to the NPRM.⁶

¹ 84 FR 13158 (April 4, 2019).

² 16 CFR 314.

³ 15 U.S.C. 6801(b).

⁴ 16 CFR 314.3, 314.4.

⁵ 84 FR 13158 (April 4, 2019).

⁶ The comments are available at https://www.regulations.gov/document?D=FTC-2019-0019-0011.

On March 2, 2020, the FTC announced that it would hold a public workshop to seek additional information relating to the costs and benefits of the changes proposed in the NPRM—specifically, that it would seek information on a number of topics from security professionals who have worked with financial services companies.⁷ The workshop was scheduled for May 13, 2020 and the Commission announced that it would accept requests to participate in the workshop until March 12, 2020 and public comments on the subject matter of the workshop until June 13, 2020.⁸

⁷ 85 FR 13082 (Mar. 6, 2020).

⁸ Id.

The Commission recognizes that the COVID-19 pandemic is currently causing, and may continue to cause, significant disruptions to the lives and operations of people and organizations across the United States.⁹ In light of these disruptions, and in the interest of facilitating broad public participation, the Commission is now postponing the GLB Safeguards Workshop until July 13, 2020. Additionally, the workshop will be conducted virtually rather than in person. It will be webcast to the public and will be viewable from the Commission's website. Further details about viewing the workshop will be released on the Commission's website prior to the workshop. The deadlines for submitting requests to participate in the workshop and public comments have been extended to May 14, 2020 and August 12, 2020, respectively.

⁹ See Statement from FTC Chairman Joe Simons Regarding Consumer Protection, Mar. 26, 2020, available at https://www.ftc.gov/system/files/documents/public_statements/1569773/final_chairman_covid_statement_3262020.pdf.

II. Public Participation Information

A. Workshop Attendance

The workshop is free and open to the public. It will be webcast live on the FTC's website, with panelists participating remotely. No in-person attendance will be permitted.

This event may be videotaped, webcast, or otherwise recorded. By participating in this event, you are agreeing that your image—and anything you say or submit—may be posted indefinitely at www.ftc.gov or on one of the Commission's publicly available social media sites.

B. Requests To Participate as a Panelist

The workshop will be organized into panels, which will address the designated topics. Panelists will be selected by FTC staff. Viewers will have an opportunity to comment and ask questions. The Commission will place a transcript of the proceeding on the public record.

Requests to participate as a panelist must be received on or before May 14, 2020, as explained in Section IV below. Persons selected as panelists will be notified on or before May 29, 2020. Disclosing funding sources promotes transparency, ensures objectivity, and maintains the public's trust. If chosen, prospective panelists will be required to disclose the source of any support they received in connection with participation at the workshop. This information will be included in the published panelist bios as part of the workshop record.

C. Electronic and Paper Comments

The submission of comments is not required for participation in the workshop. If a person wishes to submit paper or electronic comments related to the agenda topics or the issues discussed by the panelists at the workshop, such comments should be filed as prescribed in Section III, and must be received on or before August 12, 2020.

III. Filing Comments and Requests To Participate as a Panelist

You can file a comment, or request to participate as a panelist, online or on paper. For the Commission to consider your comment, we must receive it on or before August 12, 2020. For the Commission to consider your request to participate as a panelist, we must receive it by May 14, 2020. Write “Safeguards Rule, 16 CFR 314, Comment, Project No. P145407” on your comment and “Safeguards Rule, 16 CFR 314, Request to Participate, Project No. P145407” on your request to participate. Your comment—including your name and your state—will be placed on the public record of this proceeding, including, to the extent practicable, on the publicly available website, https://www.regulations.gov.

Postal mail addressed to the Commission is subject to delay because of the public health emergency in response to the COVID-19 outbreak and the agency's heightened security screening. We strongly encourage you to submit your comments online. To make sure that the Commission considers your online comment, you must file it at https://www.regulations.gov.

Because your comment will be placed on a publicly accessible website, https://www.regulations.gov, you are solely responsible for making sure that your comment does not include any sensitive or confidential information. In particular, your comment should not include sensitive personal information, such as your or anyone else's Social Security number; date of birth; driver's license number or other state identification number, or foreign country equivalent; passport number, financial account number, or credit or debit card number. You are also solely responsible for making sure that your comment does not include any sensitive health information, such as medical records or other individually identifiable health information. In addition, your comment should not include any “trade secret or any commercial or financial information which . . . is privileged or confidential”—as provided by Section 6(f) of the FTC Act, 15 U.S.C. 46(f), and FTC Rule 4.10(a)(2), 16 CFR 4.10(a)(2)— including in particular competitively sensitive information such as costs, sales statistics, inventories, formulas, patterns, devices, manufacturing processes, or customer names.

Comments containing material for which confidential treatment is requested must be filed in paper form, must be clearly labeled “Confidential,” and must comply with FTC Rule 4.9(c). In particular, the written request for confidential treatment that accompanies the comment must include the factual and legal basis for the request, and must identify the specific portions of the comment to be withheld from the public record.¹⁰ Your comment will be kept confidential only if the FTC General Counsel grants your request in accordance with the law and the public interest. Once your comment has been posted on the https://www.regulations.gov website, we cannot redact or remove your comment, unless you submit a confidentiality request that meets the requirements for such treatment under FTC Rule 4.9(c), and the General Counsel grants that request.

¹⁰ See 16 CFR 4.9(c).

Requests to participate as a panelist at the workshop should be submitted electronically to safeguardsworkshop2020@ftc.gov, or, if on paper, should be submitted in the manner detailed below. Parties are asked to include in their requests a brief statement setting forth their expertise in or knowledge of the issues on which the workshop will focus as well as their contact information, including a telephone number and email address (if available), to enable the FTC to notify them if they are selected.

If you file your comment or request to participate on paper, write “Safeguards Rule, 16 CFR part 314, Comment, Project No. P145407” on your comment and on the envelope and “Safeguards Rule, 16 CFR part 314, Request to Participate, Project No. P145407,” on your request and on the envelope. Mail your comment or request to the following address: Federal Trade Commission, Office of the Secretary, 600 Pennsylvania Avenue NW, Suite CC-5610 (Annex F), Washington, DC 20580; or deliver your comment or request to the following address: Federal Trade Commission, Office of the Secretary, Constitution Center, 400 7th Street SW, 5th Floor, Suite 5610 (Annex F). If possible, submit your paper comment or request to the Commission by courier or overnight service.

Visit the Commission website at http://www.ftc.gov to read this Notice and the news release describing it. The FTC Act and other laws that the Commission administers permit the collection of public comments to consider and use in this proceeding as appropriate. The Commission will consider all timely and responsive public comments that it receives on or before August 12, 2020. The Commission will consider all timely requests to participate as a panelist in the workshop that it receives by May 14, 2020. For information on the Commission's privacy policy, including routine uses permitted by the Privacy Act, see https://www.ftc.gov/site-information/privacy-policy.

IV. Communications by Outside Parties to Commissioners or Their Advisors

Written communications and summaries or transcripts of oral communications respecting the merits of this proceeding, from any outside party to any Commissioner or Commissioner's advisor, will be placed on the public record.¹¹

¹¹ See 16 CFR 1.26(b)(5).

By direction of the Commission.
April J. Tabor,
Acting Secretary.

[FR Doc. 2020-08800 Filed 4-24-20; 8:45 am]

BILLING CODE 6750-01-P